SMALL BUSINESS ADMINISTRATION

[Disaster Declaration # 13787 and # 13788]

New Mexico Disaster Number NM-00037

AGENCY: U.S. Small Business Administration.

ACTION: Amendment 1.

SUMMARY: This is an amendment of the Presidential declaration of a major disaster for Public Assistance Only for the State of New Mexico (FEMA-4148-DR), dated 09/30/2013.

Incident: Severe Storms and Flooding

Incident Period: 07/23/2013 through 07/28/2013

Effective Date: 11/20/2013

Physical Loan Application Deadline Date: 11/29/2013

Economic Injury (EIDL) Loan Application Deadline Date: 06/30/2014

ADDRESSES: Submit completed loan applications to: U.S. Small Business Administration, Processing And Disbursement Center, 14925 Kingsport Road, Fort Worth, TX 76155.

FOR FURTHER INFORMATION CONTACT: Alan Escobar, Office of Disaster Assistance, U.S. Small Business Administration, 409 3rd Street SW., Suite 6050, Washington, DC 20416

SUPPLEMENTARY INFORMATION: The notice of the President's major disaster declaration for Private Non-Profit organizations in the State of New Mexico, dated 09/30/2013, is hereby amended to include the following areas as adversely affected by the disaster.

Primary Counties and Areas:Sierra, And The Navajo Nation.

All other information in the original declaration remains unchanged.

(Catalog of Federal Domestic Assistance Numbers 59002 and 59008)

James E. Rivera,
Associate Administrator for Disaster Assistance.

[FR Doc. 2013-28796 Filed 11-29-13; 8:45 am]

BILLING CODE 8025-01-P